DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See Supplementary Information section for effective date(s).

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On August 19, 2022, OFAC determined that the property and interests in property subject to U.S. jurisdiction of the following persons are unblocked and they have been removed from the SDN List.

Individual

1. SHAYBAZIAN, Lazar Gurgenovich (a.k.a. SHAYBAZYAN, Lazar); DOB 01 Apr 1966; Passport CA2485930 (Uzbekistan); alt. Passport CA2179793 (Uzbekistan) (individual) [TCO].

Entities

1. GUGA ARM SRO (a.k.a. GUGA ARM LTD), Dr. Davida Bechera 907/27, Karlovy Vary 36001, Czech Republic; National ID No. 27994783 (Czech Republic) [TCO].

2. GURGEN HOUSE FZCO (a.k.a. GOURGEN HOUSE LTD; a.k.a. GURGEN HOUSE CO LTD; a.k.a. GURGEN HOUSE LLC; a.k.a. GURGEN HOUSE OOO; a.k.a. GURGEN HOUSE TOO), 130 A, Ulitsa Klara Tsetkina, Shymkent 160000, Kazakhstan; Ulitsa Angarskaya, 22.1, Moscow 125635, Russia; Ulitsa General Dorokhova, A 6 A, Moscow 121357, Russia; Ulitsa Letnikovskaya, 13 A, Office 1, Moscow 115114, Russia; Al Quds Street, Dubai Airport Free Zone, Dubai, United Arab Emirates; Office 210, Building 3E, Dubai Airport Free Zone, P.O. Box 293751, Dubai, United Arab Emirates; P.O. Box 777, Jumeirah, Dubai, United Arab Emirates; Ulitsa Jami, 5, Tashkent 100057, Uzbekistan; National ID No. 40788618 (Kazakhstan); alt. National ID No. 582100259386 (Kazakhstan); Tax ID No. 7743693291 (Russia); Company Number 86483143 (Russia); Public Registration Number 1087746669845 (Russia) [TCO].

Dated: August 19, 2022.
Andrea M. Gacki,
Director, Office of Foreign Assets Control, U.S. Department of the Treasury

[FR Doc. 2022-18241 Filed 8-23-22; 8:45 am]

BILLING CODE P